DEPARTMENT OF ENERGY

Federal Energy Regulatory Commission

Notice of Non-Project Use of Project Lands and Waters and Soliciting Comments, Motions To Intervene, and Protests

February 2, 2007.

Take notice that the following application has been filed with the Commission and is available for public inspection:

a. Application Type: Non-Project Use of Project Lands and Waters.

b. Project No: 2503-111.

c. Date Filed: January 12, 2007.

d. Applicant: Duke Energy Carolinas, LLC.

e. Name of Project: Keowee-Toxaway Hydroelectric Project.

f. Location: The project is located on Lake Keowee in Pickens County, South Carolina. The project does not utilize federal or tribal lands.

g. Filed Pursuant to: Federal Power Act, 16 U.S.C. 791(a)-825(r).

h. Applicant Contact: Mr. Joe Hall, Lake Management Representative, Duke Energy Corporation, P.O. Box 1006, Charlotte, NC 28201-1006. Phone: (704) 382-8576.

i. FERC Contact: Any questions on this notice should be addressed to Shana High at (202) 502-8674.

j. Deadline for filing comments and/or motions: March 2, 2007.

All documents (original and eight copies) should be filed with: Ms. Magalie R. Salas, Secretary, Federal Energy Regulatory Commission, 888 First Street, NE., Washington DC 20426. Please include the project number (P-2503-111) on any comments or motions filed. Comments, protests, and interventions may be filed electronically via the internet in lieu of paper. See, 18 CFR 385.2001(a)(1)(iii) and the instructions on the Commission's web site under the “e-Filing” link. The Commission strongly encourages e-filings.

k. Description of Proposal: Duke Energy Carolinas, LLC proposes to lease two parcels of project land to The Highlands on Lake Keowee Owner's Association for two proposed cluster docks and a courtesy launch for canoes. The two parcels will total 0.711 acre and will provide 19 boat docking locations for access to the reservoir by residents of The Highlands. Two cluster docks, one with nine docking locations and one with ten docking locations, would be on 0.623 acre of project property, and the canoe launch would be on an 0.088 acre parcel of project property. The licensee consulted with, and incorporated comments received from, various Federal and state agencies including the U.S. Army Corps of Engineers, U.S. Fish and Wildlife Service, South Carolina Department of Archives and History, South Carolina Department of Natural Resources, South Carolina Department of Parks, Recreation, and Tourism, and the South Carolina Institute of Archaeology and Anthropology.

l. Locations of the Application: This filing is available for review at the Commission or may be viewed on the Commission's Web site at http://www.ferc.gov, using the “eLibrary” link. Enter the docket number excluding the last three digits in the docket number field to access the document. For assistance, contact FERC Online Support at FERCOnlineSupport@ferc.gov or toll-free at (866) 208-3676, or for TTY, contact (202) 502-8659.

m. Individuals desiring to be included on the Commission's mailing list should so indicate by writing to the Secretary of the Commission.

n. Comments, Protests, or Motions To Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, OR “MOTION TO INTERVENE”, as applicable, and the project number of the particular application to which the filing refers. A copy of any motion to intervene must also be served upon each representative of the Applicant specified in the particular application.

p. Agency Comments: Federal, State, and local agencies are invited to file comments on the described application. A copy of the application may be obtained by agencies directly from the Applicant. If an agency does not file comments within the time specified for filing comments, it will be presumed to have no comments. One copy of an agency's comments must also be sent to the Applicant's representatives.

Magalie R. Salas,
Secretary.

[FR Doc. E7-2261 Filed 2-9-07; 8:45 am]

BILLING CODE 6717-01-P